DEPARTMENT OF ENERGY

Federal Energy Regulatory Commission

Notice of Effectiveness of Exempt Wholesale Generator Status

Passadumkeag Windpark, LLC | EG15-45-000
Pio Pico Energy Center, LLC | EG15-46-000
Shafter Solar, LLC | EG15-47-000
Pilot Hill Wind, LLC | EG15-48-000
Kingfisher Wind, LLC | EG15-49-000
Prairie Breeze Wind Energy LLC | EG15-50-000
Prairie Breeze Wind Energy II LLC | EG15-51-000
Buckeye Wind Energy LLC | EG15-52-000
Beethoven Wind, LLC | EG15-53-000
Alexander Wind Farm, LLC | EG15-54-000
Nueces Bay WLE, LP | EG15-55-000
Red Horse Wind 2, LLC | EG15-56-000
Balko Wind, LLC | EG15-57-000

Take notice that during the month of April 2015, the status of the above-captioned entities as Exempt Wholesale Generators became effective by operation of the Commission's regulations. 18 CFR 366.7(a).

Dated: May 20, 2015.
Kimberly D. Bose,
Secretary.

[FR Doc. 2015-12704 Filed 5-26-15; 8:45 am]

BILLING CODE 6717-01-P